DEPARTMENT OF COMMERCE

International Trade Administration

[A-570-890]

Wooden Bedroom Furniture From the People's Republic of China; Initiation of New Shipper Reviews

AGENCY: Import Administration, International Trade Administration, Department of Commerce.

EFFECTIVE DATE: September 12, 2007.

SUMMARY: The Department of Commerce (the “Department”) received timely requests to conduct new shipper reviews of the antidumping duty order on wooden bedroom furniture from the People's Republic of China (“PRC”). In accordance with 19 CFR 351.214(d)(1), we are initiating new shipper reviews for Dongguan Bon Ten Furniture Co., Ltd. (“Bon Ten”) and Dongguan Mu Si Furniture Co., Ltd. (“Mu Si”).

FOR FURTHER INFORMATION CONTACT: Paul Stolz or Hua Lu, AD/CVD Operations, Office 8, Import Administration, International Trade Administration, U.S. Department of Commerce, 14th Street and Constitution Avenue, NW, Washington, DC 20230; telephone: (202) 482-4474 or (202) 482-6478, respectively.

SUPPLEMENTARY INFORMATION: The Department received timely requests from Bon Ten and Mu Si on July 27, 2007, pursuant to section 751(a)(2)(B) of the Tariff Act of 1930, as amended (“the Act”), and in accordance with 19 CFR 351.214(c), for new shipper reviews of the antidumping duty order on wooden bedroom furniture from the PRC. See Notice of Amended Final Determination of Sales at Less than Fair Value and Antidumping Duty Order: Wooden Bedroom Furniture from the People's Republic of China, 70 FR 329 (January 4, 2005).

Pursuant to 19 CFR 351.214(b)(2), in their requests for new shipper reviews, Bon Ten and Mu Si certified that they did not export wooden bedroom furniture to the United States during the period of investigation (“POI”); that since the initiation of the investigation they have never been affiliated with any company that exported subject merchandise to the United States during the POI; and that their export activities were not controlled by the central government of the PRC.

In accordance with 19 CFR 351.214(b)(2)(iv), Bon Ten and Mu Si submitted documentation establishing the following: (1) the date on which they first shipped wooden bedroom furniture for export to the United States; (2) the volume of their first shipment; and (3) the date of their first sale to an unaffiliated customer in the United States.

The Department conducted customs queries to confirm that the shipment of Bon Ten and Mu Si had officially entered the United States via assignment of an entry date in the customs database by the U.S. Customs and Border Protection (“CBP”). We note that although Bon Ten and Mu Si submitted documentation regarding the volume of their shipments and the date of their first sale to an unaffiliated customer in the United States, our customs query shows that Bon Ten's and Mu Si's shipments entered the United States shortly after the anniversary month.

Under 19 CFR 351.214(f)(2)(ii), when the sale of the subject merchandise occurs within the period of review (“POR”), but the entry occurs after the normal POR, the POR may be extended unless it would be likely to prevent the completion of the review within the time limits set by the Department=s regulations. The preamble to the Department=s regulations states that both the entry and the sale should occur during the POR, and that under “appropriate” circumstances the Department has the flexibility to extend the POR. See Antidumping Duties; Countervailing Duties; Final Rule, 62 FR 27296, 27319-27320 (May 19, 1997). In this instance, Bon Ten's and Mu Si's shipments entered in the month following the end of the POR. The Department does not find that this delay prevents the completion of the review within the time limits set by the Department=s regulations.

Initiation of New Shipper Review

In accordance with section 751(a)(2)(B) of the Act and 19 CFR 351.214(d)(1), and based on information on the record, we find that Bon Ten's and Mu Si's requests meet the initiation threshold requirements and we are initiating new shipper reviews for shipments of wooden bedroom furniture produced and exported by Bon Ten and Mu Si. See Memoranda to the File through Wendy J. Frankel, Director, New Shipper Initiation Checklist, dated August 31, 2007. The Department will conduct these new shipper reviews according to the deadlines set forth in section 751(a)(2)(B)(iv) of the Act.

Pursuant to 19 CFR 351.214(g)(1)(i)(B), the POR for a new shipper review, initiated in the month immediately following the semi-annual anniversary month, will be the six-month period immediately preceding the semi-annual anniversary month. As discussed above, under 19 CFR 351.214 (f)(2)(ii), when the sale of the subject merchandise occurs within the POR, but the entry occurs after the normal POR, the POR may be extended. Therefore, the POR for the new shipper reviews of Bon Ten and Mu Si is January 1 through July 31, 2007.

It is the Department's usual practice, in cases involving non-market economies, to require that a company seeking to establish eligibility for an antidumping duty rate separate from the country-wide rate provide evidence of de jure and de facto absence of government control over the company's export activities. Accordingly, we will issue questionnaires to Bon Ten and Mu Si, including a separate-rate section. The reviews will proceed if the responses provide sufficient indication that Bon Ten and Mu Si are not subject to either de jure or de facto government control with respect to their exports of wooden bedroom furniture. However, if Bon Ten or Mu Si does not demonstrate its eligibility for a separate rate, it will be deemed not separate from other companies that exported during the POI, and its new shipper review will be rescinded.

On August 17, 2006, the Pension Protection Act of 2006 (H.R. 4) was signed into law. Section 1632 of H.R. 4 temporarily suspends the authority of the Department to instruct CBP to collect a bond or other security in lieu of a cash deposit in new shipper reviews. Therefore, the posting of a bond or other security under section 751(a)(2)(B)(iii) of the Act in lieu of a cash deposit is not available in this case. Importers of wooden bedroom furniture produced and exported by Bon Ten and Mu Si must continue to post cash deposits of estimated antidumping duties on each entry of subject merchandise (i.e., wooden bedroom furniture) at the PRC-wide entity rate of 216.01 percent.

Interested parties that need access to proprietary information in this new shipper review should submit applications for disclosure under administrative protective order in accordance with 19 CFR 351.305 and 351.306.

This initiation and notice are issued in accordance with section 751(a)(2)(B) of the Act and 19 CFR 351.214 and 351.221(c)(1)(i).

Dated: August 31, 2007.
Gary Taverman,
Acting Deputy Assistant Secretary for Import Administration.

[FR Doc. E7-17995 Filed 9-11-07; 8:45 am]

BILLING CODE 3510-DS-S